DEPARTMENT OF THE INTERIOR

Bureau of Land Management

[OR-030-1020-XX-028H; HAG 04-0170]

Resource Advisory Council Meeting

AGENCY: Bureau of Land Management (BLM), Vale District, Interior.

ACTION: Meeting notice for the John Day/Snake Resource Advisory Council.

SUMMARY: The John Day/Snake Resource Advisory Council will meet on Tuesday, June 22, 2004, at the Sunridge Inn, One Sunridge Way, Baker City, OR, 8 a.m. to 4 p.m. (Pacific Time).

The meeting may include such topics as, Northwest Power Planning Council Sub-basin Planning; Blue Mountain Forest Plan Revision; Grazing; and Healthy Forest Restoration Act. There will also be subcommittee updates on OHV, Noxious Weeds, Planning, Sage Grouse, and other matters as may reasonably come before the board.

There will be a field trip from approximately 8 a.m. to 2 p.m. on Wednesday, June 23, 2004 to view the Frazier Stewardship Forest Health Project. Any public that would like to join in the field trip will need to provide their own transportation.

The entire meeting is open to the public. For a copy of the information to be distributed to the Council members, please submit a written request to the Vale District Office 10 days prior to the meeting. Public comment is scheduled for 11 a.m. to 11:15 a.m., Pacific Time (PT).

FOR FURTHER INFORMATION CONTACT: Additional information concerning the John Day/Snake Resource Advisory Council may be obtained from Peggy Diegan, Management Assistant/Webmaster, Vale District Office, 100 Oregon Street, Vale, OR 97918 (541) 473-3144, or e-mail Peggy_Diegan@or.blm.gov.

Dated: April 29, 2004.
David R. Henderson,
District Manager.

[FR Doc. 04-10176 Filed 5-4-04; 8:45 am]

BILLING CODE 4310-33-P